FEDERAL COMMUNICATIONS COMMISSION

47 CFR Part 73

[DA 04-2508; MB Docket No. 04-127, RM-10941; MB Docket No. 04-128, RM-10942; MB Docket No. 04-129, RM-10943; MB Docket No. 04-130, RM-10944; MB Docket No. 04-131, RM-10945; MB Docket No. 04-132, RM-10946; MB Docket No. 04-133, RM-10947; MB Docket No. 04-135, RM-10949, RM-10950; MB Docket No. 04-136, RM-10951; MB Docket No. 04-137, RM-10952; MB Docket No. 04-138, RM-10953, RM-10954]

Radio Broadcasting Services; Augusta, WI, Barnwell, SC, Burnet, TX, Denver City, TX, Fountain Green, UT, Hayward, WI, Liberty, PA, Shenandoah, VA, St. Marys, WV, Susquehanna, PA, and Van Alstyne, TX

AGENCY: Federal Communications Commission.

ACTION: Final rule.

SUMMARY: The Audio Division grants eleven reservation proposals requesting to amend the FM Table of Allotments by reserving certain vacant FM allotments for noncommercial educational use in Augusta, WI, Barnwell, SC, Burnet, TX, Denver City, TX, Fountain Green, UT, Hayward, WI, Liberty, PA, Shenandoah, VA, St. Marys, WV, Susquehanna, PA, and Van Alstyne, TX. See 69 FR 26061, published May 11, 2004. At the request of Youngshine Media, Inc., the Audio Division grants a petition requesting to reserve vacant Channel 298A at Liberty, Pennsylvania for noncommercial educational use. The reference coordinates for Channel *298A at Liberty are 41-29-28 North Latitude and 77-12-22 West Longitude. At the request of American Family Association, the Audio Division grants a petition requesting to reserve vacant Channel 227A at Susquehanna, Pennsylvania for noncommercial educational use. The reference coordinates for Channel *227A at Susquehanna are 41-55-44 North Latitude and 75-31-50 West Longitude. At the request of American Family Association, the Audio Division grants a petition requesting to reserve vacant Channel 256C3 at Barnwell, South Carolina for noncommercial educational use. The reference coordinates for Channel *256C3 at Barnwell are 33-24-29 North Latitude and 81-16-43 West Longitude. See SUPPLEMENTARY INFORMATION, infra.

DATES: Effective September 27, 2004.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket Nos. 04-127, 04-128, 04-129, 04-130, 04-131, 04-132, 04-133, 04-135, 04-136, 04-137, 04-138 adopted August 10, 2004 and released August 12 , 2004. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160, or via e-mail http://www.BCPIWEB.com. The Commission will send a copy of the Report and Order in a report to be sent to Congress and the General Accounting Office pursuant to the Congressional Review Act, see 5 U.S.C. 801(a)(1)(A).

At the request of American Family Association, the Audio Division grants a petition requesting to reserve vacant Channel 240A at Burnet, Texas for noncommercial educational use. The reference coordinates for Channel *240A at Burnet are 30-51-05 North Latitude and 98-17-35 West Longitude. At the request of American Family Association, the Audio Division grants a petition to reserve vacant Channel 248C2 at Denver City, Texas for noncommercial educational use. The reference coordinates for Channel *248C2 at Denver City are 33-01-53 North Latitude and 102-48-47 West Longitude. At the request of American Family Association, the Audio Division grants a petition requesting to reserve vacant Channel 260A at Van Alstyne, Texas for noncommercial educational use. The reference coordinates for Channel *260A at Van Alstyne are 33-27-08 North Latitude and 96-27-21 West Longitude. At the request of Intermountain Educational Communications, Inc., the Audio Division grants a petition requesting to reserve vacant Channel 260A at Fountain Green, Utah for noncommercial educational use. The reference coordinates for Channel *260A at Fountain Green are 39-37-42 North Latitude and 111-38-24 West Longitude. At the request of Sister Sherry Lynn Foundation, Inc. and American Family Association, the Audio Division grants petitions requesting to reserve vacant Channel 296A at Shenandoah, Virginia for noncommercial educational use. The reference coordinates for Channel *296A at Shenandoah are 38-30-00 North Latitude and 78-36-33 West Longitude. At the request of Starboard Media Foundation, Inc., the Audio Division grants a petition requesting to reserve vacant Channel 268C3 at Augusta, Wisconsin for noncommercial educational use. The reference coordinates for Channel *268C3 at Augusta are 44-40-11 North Latitude and 90-57-55 West Longitude. At the request of Starboard Media Foundation, Inc., the Audio Division grants a petition requesting to reserve vacant Channel 232C2 at Hayward, Wisconsin for noncommercial educational use. The reference coordinates for Channel *232C2 at Hayward are 46-15-04 North Latitude and 91-23-01 West Longitude. At the request of Fine Arts Radio, Inc. and West Virginia Educational Broadcasting Authority, the Audio Division grants petitions requesting to reserve vacant Channel 287A at St. Marys, West Virginia for noncommercial educational use. The reference coordinates for Channel *287A at St. Marys are 39-18-03 North Latitude and 81-15-19 West Longitude.

The FM Table of Allotments currently lists Channel 257C1 at Barnwell, South Carolina, however, the Audio Division substituted Channel 257C1 for Channel 256C3 at Barnwell, SC, reallotted Channel 257C1 to Pembroke, Georgia, and modified the license of Station WBAW to specify operation on Channel 257C1 at Pembroke in MM Docket No. 00-18. As such, Channel 256C3 was allotted to Barnwell, SC as a replacement service not Channel 257C1. See 66 FR 55596, published November 2, 2001.

List of Subjects in 47 CFR Part 73

Radio, Radio broadcasting.

For the reasons discussed in the preamble, the Federal Communications Commission amends 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Pennsylvania is amended by adding Channel *298A and by removing Channel 298A at Liberty; and by adding Channel *227A and by removing Channel 227A at Susquehanna.

3. Section 73.202(b), the Table of FM Allotments under South Carolina, is amended by adding Channel *256C3 and by removing Channel 257C1 at Barnwell.

4. Section 73.202(b), the Table of FM Allotments under Texas, is amended by adding Channel *240A and by removing Channel 240A at Burnet; by adding Channel *248C2 and by removing Channel 248C2 at Denver City; by adding Channel *260A and by removing Channel 260A at Van Alstyne.

5. Section 73.202(b), the Table of FM Allotments under Utah, is amended by adding Channel *260A and by removing Channel 260A at Fountain Green.

6. Section 73.202(b), the Table of FM Allotments under Virginia, is amended by adding Channel *296A and by removing Channel 296A at Shenandoah.

7. Section 73.202(b), the Table of FM Allotments under West Virginia, is amended by adding Channel *287A and by removing Channel 287A at St. Marys.

8. Section 73.202(b), the Table of FM Allotments under Wisconsin, is amended by adding Channel *268C3 and by removing Channel 268C3 at Augusta; and by adding Channel *232C2 and by removing Channel 232C2 at Hayward.

Federal Communications Commission.
John A. Karousos,
Assistant Chief, Audio Division, Media Bureau.

[FR Doc. 04-19023 Filed 8-18-04; 8:45 am]

BILLING CODE 6712-01-P